DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of July 20, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

(Catalog of Federal Domestic Assistance No. 97.022, “Flood Insurance.”)

Dated: April 12, 2016.
Roy E. Wright,
Deputy Associate Administrator for Insurance and Mitigation, Department of Homeland Security, Federal Emergency Management Agency.

Community | Community map repository address
Hancock County, Maine (All Jurisdictions)
Docket No.: FEMA-B-1415
Bald Island | Land Use Planning Commission, Maine Department of Agriculture, Conservation and Forestry, 18 Elkins Lane/Harlow Building, 4th floor, State House Station 22, Augusta, ME 04333.
Bar Island | Land Use Planning Commission, Maine Department of Agriculture, Conservation and Forestry, 18 Elkins Lane/Harlow Building, 4th floor, State House Station 22, Augusta, ME 04333.
Beach Island | Land Use Planning Commission, Maine Department of Agriculture, Conservation and Forestry, 18 Elkins Lane/Harlow Building, 4th floor, State House Station 22, Augusta, ME 04333.
Bear Island | Land Use Planning Commission, Maine Department of Agriculture, Conservation and Forestry, 18 Elkins Lane/Harlow Building, 4th floor, State House Station 22, Augusta, ME 04333.
Big Barred Island | Land Use Planning Commission, Maine Department of Agriculture, Conservation and Forestry, 18 Elkins Lane/Harlow Building, 4th floor, State House Station 22, Augusta, ME 04333.
Birch Island | Land Use Planning Commission, Maine Department of Agriculture, Conservation and Forestry, 18 Elkins Lane/Harlow Building, 4th floor, State House Station 22, Augusta, ME 04333.
Bradbury Island | Land Use Planning Commission, Maine Department of Agriculture, Conservation and Forestry, 18 Elkins Lane/Harlow Building, 4th floor, State House Station 22, Augusta, ME 04333.
Butter Island | Land Use Planning Commission, Maine Department of Agriculture, Conservation and Forestry, 18 Elkins Lane/Harlow Building, 4th floor, State House Station 22, Augusta, ME 04333.
Chain Links Islands—North | Land Use Planning Commission, Maine Department of Agriculture, Conservation and Forestry, 18 Elkins Lane/Harlow Building, 4th floor, State House Station 22, Augusta, ME 04333.
Chain Links Islands—South | Land Use Planning Commission, Maine Department of Agriculture, Conservation and Forestry, 18 Elkins Lane/Harlow Building, 4th floor, State House Station 22, Augusta, ME 04333.
Channel Rock Island | Land Use Planning Commission, Maine Department of Agriculture, Conservation and Forestry, 18 Elkins Lane/Harlow Building, 4th floor, State House Station 22, Augusta, ME 04333.
City of Ellsworth | City Hall, One City Hall Plaza, Ellsworth, ME 04605.
Colt Head Island | Land Use Planning Commission, Maine Department of Agriculture, Conservation and Forestry, 18 Elkins Lane/Harlow Building, 4th floor, State House Station 22, Augusta, ME 04333.
Compass Island | Land Use Planning Commission, Maine Department of Agriculture, Conservation and Forestry, 18 Elkins Lane/Harlow Building, 4th floor, State House Station 22, Augusta, ME 04333.
Crow Island | Land Use Planning Commission, Maine Department of Agriculture, Conservation and Forestry, 18 Elkins Lane/Harlow Building, 4th floor, State House Station 22, Augusta, ME 04333.
Eagle Island | Land Use Planning Commission, Maine Department of Agriculture, Conservation and Forestry, 18 Elkins Lane/Harlow Building, 4th floor, State House Station 22, Augusta, ME 04333.
Eaton Island | Land Use Planning Commission, Maine Department of Agriculture, Conservation and Forestry, 18 Elkins Lane/Harlow Building, 4th floor, State House Station 22, Augusta, ME 04333.
Fling Island | Land Use Planning Commission, Maine Department of Agriculture, Conservation and Forestry, 18 Elkins Lane/Harlow Building, 4th floor, State House Station 22, Augusta, ME 04333.
Grass Ledge Island | Land Use Planning Commission, Maine Department of Agriculture, Conservation and Forestry, 18 Elkins Lane/Harlow Building, 4th floor, State House Station 22, Augusta, ME 04333.
Great Spruce Head Island | Land Use Planning Commission, Maine Department of Agriculture, Conservation and Forestry, 18 Elkins Lane/Harlow Building, 4th floor, State House Station 22, Augusta, ME 04333.
Hardhead Island | Land Use Planning Commission, Maine Department of Agriculture, Conservation and Forestry, 18 Elkins Lane/Harlow Building, 4th floor, State House Station 22, Augusta, ME 04333.
Hog Island | Land Use Planning Commission, Maine Department of Agriculture, Conservation and Forestry, 18 Elkins Lane/Harlow Building, 4th floor, State House Station 22, Augusta, ME 04333.
Horsehead Island | Land Use Planning Commission, Maine Department of Agriculture, Conservation and Forestry, 18 Elkins Lane/Harlow Building, 4th floor, State House Station 22, Augusta, ME 04333.
Inner Porcupine Island | Land Use Planning Commission, Maine Department of Agriculture, Conservation and Forestry, 18 Elkins Lane/Harlow Building, 4th floor, State House Station 22, Augusta, ME 04333.
Little Barred Island | Land Use Planning Commission, Maine Department of Agriculture, Conservation and Forestry, 18 Elkins Lane/Harlow Building, 4th floor, State House Station 22, Augusta, ME 04333.
Little Marshall Island | Land Use Planning Commission, Maine Department of Agriculture, Conservation and Forestry, 18 Elkins Lane/Harlow Building, 4th floor, State House Station 22, Augusta, ME 04333.
Little Spruce Head | Land Use Planning Commission, Maine Department of Agriculture, Conservation and Forestry, 18 Elkins Lane/Harlow Building, 4th floor, State House Station 22, Augusta, ME 04333.
Marshall Island | Land Use Planning Commission, Maine Department of Agriculture, Conservation and Forestry, 18 Elkins Lane/Harlow Building, 4th floor, State House Station 22, Augusta, ME 04333.
Outer Porcupine Island | Land Use Planning Commission, Maine Department of Agriculture, Conservation and Forestry, 18 Elkins Lane/Harlow Building, 4th floor, State House Station 22, Augusta, ME 04333.
Peak Island | Land Use Planning Commission, Maine Department of Agriculture, Conservation and Forestry, 18 Elkins Lane/Harlow Building, 4th floor, State House Station 22, Augusta, ME 04333.
Pickering Island | Land Use Planning Commission, Maine Department of Agriculture, Conservation and Forestry, 18 Elkins Lane/Harlow Building, 4th floor, State House Station 22, Augusta, ME 04333.
Pond Island | Land Use Planning Commission, Maine Department of Agriculture, Conservation and Forestry, 18 Elkins Lane/Harlow Building, 4th floor, State House Station 22, Augusta, ME 04333.
Pumpkin Island | Land Use Planning Commission, Maine Department of Agriculture, Conservation and Forestry, 18 Elkins Lane/Harlow Building, 4th floor, State House Station 22, Augusta, ME 04333.
Resolution Island | Land Use Planning Commission, Maine Department of Agriculture, Conservation and Forestry, 18 Elkins Lane/Harlow Building, 4th floor, State House Station 22, Augusta, ME 04333.
Scott Island | Land Use Planning Commission, Maine Department of Agriculture, Conservation and Forestry, 18 Elkins Lane/Harlow Building, 4th floor, State House Station 22, Augusta, ME 04333.
Scrag Island | Land Use Planning Commission, Maine Department of Agriculture, Conservation and Forestry, 18 Elkins Lane/Harlow Building, 4th floor, State House Station 22, Augusta, ME 04333.
Sheep Island | Land Use Planning Commission, Maine Department of Agriculture, Conservation and Forestry, 18 Elkins Lane/Harlow Building, 4th floor, State House Station 22, Augusta, ME 04333.
Sloop Island | Land Use Planning Commission, Maine Department of Agriculture, Conservation and Forestry, 18 Elkins Lane/Harlow Building, 4th floor, State House Station 22, Augusta, ME 04333.
Sloop Island Ledge | Land Use Planning Commission, Maine Department of Agriculture, Conservation and Forestry, 18 Elkins Lane/Harlow Building, 4th floor, State House Station 22, Augusta, ME 04333.
Spectacle Island | Land Use Planning Commission, Maine Department of Agriculture, Conservation and Forestry, 18 Elkins Lane/Harlow Building, 4th floor, State House Station 22, Augusta, ME 04333.
Sugarloaf | Land Use Planning Commission, Maine Department of Agriculture, Conservation and Forestry, 18 Elkins Lane/Harlow Building, 4th floor, State House Station 22, Augusta, ME 04333.
Town of Amherst | Town Office, 572 Airline Road, Amherst, ME 04605.
Town of Bar Harbor | Town Hall, 93 Cottage Street, Bar Harbor, ME 04609.
Town of Blue Hill | Town Office, 18 Union Street, Blue Hill, ME 04614.
Town of Brooklin | Town Office, 23 Bay Road, Brooklin, ME 04616.
Town of Brooksville | Town Office, One Town House Road, Brooksville, ME 04617.
Town of Bucksport | Town Office, 50 Main Street, Bucksport, ME 04416.
Town of Castine | Emerson Hall, 67 Court Street, Castine, ME 04421.
Town of Cranberry Isles | Cranberry Isles Town Office, 16 Maple Avenue, Islesford, ME 04646.
Town of Dedham | Town Office, 2073 Main Road, Suite A, Dedham, ME 04429.
Town of Deer Isle | Town Office, 70 Church Street, Deer Isle, ME 04627.
Town of Eastbrook | Town Office, 959 Eastbrook Road, Eastbrook, ME 04634.
Town of Franklin | Town Office, 34 Main Street, Franklin, ME 04634.
Town of Frenchboro | Town Office, One Executive Drive, Frenchboro, ME 04635.
Town of Gouldsboro | Gouldsboro Town Office, 59 Main Street, Prospect Harbor, ME 04669.
Town of Hancock | Town Office, 18 Point Road, Hancock, ME 04640.
Town of Lamoine | Town Hall, 606 Douglas Highway, Lamoine, ME 04605.
Town of Mariaville | Town Office, 1686 Mariaville Road, Mariaville, ME 04605.
Town of Mount Desert | Mount Desert Town Office, 21 Sea Street, Northeast Harbor, ME 04662.
Town of Orland | Town Office, 25 School House Road, Orland, ME 04472.
Town of Otis | Town Office, 132 Otis Road, Otis, ME 04605.
Town of Penobscot | Town Office, One Southern Bay Road, Penobscot, ME 04476.
Town of Sedgwick | Town Office, 719 North Sedgwick Road, Sedgwick, ME 04676.
Town of Sorrento | Town Office, 79 Pomola Avenue, Sorrento, ME 04677.
Town of Southwest Harbor | Town Office, 26 Village Green Way, Southwest Harbor, ME 04679.
Town of Stonington | Town Office, 32 Main Street, Stonington, ME 04681.
Town of Sullivan | Town Office, 1888 US Highway 1, Sullivan, ME 04664.
Town of Surry | Town Office, 741 North Bend Road, Surry, ME 04684.
Town of Swan's Island | Town Office, 125 Harbor Road, Swan's Island, ME 04685.
Town of Tremont | Tremont Town Office, 20 Harbor Drive, Bass Harbor, ME 04653.
Town of Trenton | Town Office, 59 Oak Point Road, Trenton, ME 04605.
Town of Verona Island | Town Hall, 16 School Street, Verona Island, ME 04416.
Town of Waltham | Town Office, 1520 Waltham Road, Waltham, ME 04605.
Town of Winter Harbor | Town Office, 20 School Street, Winter Harbor, ME 04693.
Township of Fletchers Landing | Land Use Planning Commission, Maine Department of Agriculture, Conservation and Forestry, 18 Elkins Lane/Harlow Building, 4th floor, State House Station 22, Augusta, ME 04333.
Township of T07 SD | Land Use Planning Commission, Maine Department of Agriculture, Conservation and Forestry, 18 Elkins Lane/Harlow Building, 4th floor, State House Station 22, Augusta, ME 04333.
Two Bush Island | Land Use Planning Commission, Maine Department of Agriculture, Conservation and Forestry, 18 Elkins Lane/Harlow Building, 4th floor, State House Station 22, Augusta, ME 04333.
Western Island | Land Use Planning Commission, Maine Department of Agriculture, Conservation and Forestry, 18 Elkins Lane/Harlow Building, 4th floor, State House Station 22, Augusta, ME 04333.
Talbot County, Maryland, and Incorporated Areas
Docket No.: FEMA-B-1359
Town of Easton | Town Hall, 14 South Harrison Street, Easton, MD 21601.
Town of Oxford | Municipal Building, 101 Market Street, Oxford, MD 21654.
Town of St. Michaels | Edgar M. Bosley, Jr. Municipal Building, 300 Mill Street, St. Michaels, MD 21663.
Unincorporated Areas of Talbot County | Talbot County Office of Planning and Zoning, 215 Bay Street, Suite 2, Easton, MD 21601.
Dukes County, Massachusetts (All Jurisdictions)
Docket No.: FEMA-B-1523
Town of Aquinnah | Town Hall, 65 State Road, Aquinnah, MA 02535.
Town of Chilmark | Town Hall, 401 Middle Road, Chilmark, MA 02535.
Town of Edgartown | Town Hall, 70 Main Street, Edgartown, MA 02539.
Town of Gosnold | Gosnold Town Hall, 28 Tower Hill Road, Cuttyhunk Island, MA 02713.
Town of Oak Bluffs | Town Hall, 56 School Street, Oak Bluffs, MA 02557.
Town of Tisbury | Tisbury Town Hall, 51 Spring Street, Vineyard Haven, MA 02568.
Town of West Tisbury | Town Hall, 1059 State Road, West Tisbury, MA 02575.

[FR Doc. 2016-09854 Filed 4-26-16; 8:45 am]

BILLING CODE 9110-12-P